ENVIRONMENTAL PROTECTION AGENCY

[FRL-8331-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held July 17-19, 2007 at RESOLVE, Washington, DC. The CHPAC was created to advise the Environmental Protection Agency on science, regulations, and other issues relating to children's environmental health.

DATES: Task Groups will meet on Tuesday July 17th, and the CHPAC Plenary will meet on Wednesday July 18th and Thursday July 19th, 2007 at RESOLVE.

ADDRESSES: RESOLVE, 1255 23rd Street, NW., Suite 275, Washington, DC.

FOR FURTHER INFORMATION CONTACT: Carolyn Hubbard, Office of Children's Health Protection and Environmental Education, USEPA, MC 1107A, 1200 Pennsylvania Avenue, NW., Washington, DC 20460, (202) 564-2189, hubbard.carolyn@epa.gov.

SUPPLEMENTARY INFORMATION: The meetings of the CHPAC are open to the public. Task Group meetings will take place on Tuesday July 17th, 2007 at RESOLVE from 8:30 a.m. to 5:30 p.m. The CHPAC plenary will meet on Wednesday July 18th from 8:30 a.m. to 5:45 p.m. and Thursday July 19th from 8:30 a.m. to 12:30 p.m. Agenda items include discussion and next steps from the Emerging Chemicals of Concern, NAAQS for Ozone, 2007 Anniversary and the Children's Environmental Health Research Centers Task Groups. EPA Administrator Stephen Johnson may meet with the committee at a time to be determined on July 18th or 19th. Draft agenda attached.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: June 21, 2007.
Carolyn Hubbard,
Designated Federal Official.

U.S. Environmental Protection Agency

Children's Health Protection Advisory Committee

RESOLVE, 1255 23rd Street NW., Suite 275, Washington, DC 20037

Draft Agenda

Tuesday, July 17, 2007

Task Group Meetings

8:30-12 Emerging Chemicals of Concern Task Group (ECOC).

8:30-12 National Ambient Air Quality Standard (NAAQS) for Ozone Task Group.

1-5:30 Children's Environmental Health Research Centers (CEHRC) Task Group.

Wednesday, July 18, 2007

CHPAC Plenary Session

8:30-9 Continental Breakfast and Gathering.

9-9:15 Welcome, Introductions, Review Meeting Agenda.

9:15-9:30 Highlights of Recent OCHPEE Activities.

9:30-10:30 Children's Environmental Health Research Centers Review.

10:30-10:45 Break.

10:45-12 Children's Environmental Health Research Centers Work Group Comment letter.

12-1:30 LUNCH (on your own).

1:30-3 Emerging Chemicals of Concern Workgroup Update.

3-3:15 Break.

3:15-4:15 National Ambient Air Quality Standard (NAAQS) for Ozone Update.

4:15-5:15 Next Decade: 2007 Anniversary of the Executive Order Workgroup Update.

5:15 Public Comment.

5:45 Adjourn for the day.

Thursday, July 19, 2007

CHPAC Plenary Session continued

8:30-9 Coffee.

9-9:15 Check in and agenda review.

9:15-10:15 Children's Environmental Health Research Centers Recommendation.

10:15-10:30 Break.

10:30-11:30 NAAQS for Ozone Recommendations.

11:30-12:30 Wrap Up/Next Steps.

12:30 Adjourn.

[FR Doc. E7-12420 Filed 6-26-07; 8:45 am]

BILLING CODE 6560-50-P